DEPARTMENT OF STATE

[Public Notice: 12222]

President's Advisory Council on African Diaspora Engagement

AGENCY: Department of State.

ACTION: Notice of public inaugural plenary session meeting and swearing-in ceremony of the President's Advisory Council on African Diaspora Engagement.

SUMMARY: Pursuant to the Federal Advisory Committee Act, 5 U.S.C. 1001 et seq., and 41 CFR 102-3.65, the Department of State hereby provides notice of the inaugural plenary session meeting and swearing-in ceremony of the President's Advisory Council on African Diaspora Engagement (“the Advisory Council”).

DATES: The Advisory Council will host a public inaugural plenary session and swearing-in ceremony on Monday, October 30, 2023.

FOR FURTHER INFORMATION CONTACT: Deniece Laurent-Mantey at email; Laurent-ManteyDO@state.gov.

SUPPLEMENTARY INFORMATION: The inaugural meeting for the Advisory Council will take place at the White House and will be broadcast live on the internet. Individuals requesting a link to the livestream should RSVP to Ms. Laurent-Mantey at the email address above, not later than October 23, 2023, for instructions on how to access the meeting. Persons needing reasonable accommodation should make that request when they RSVP. Requests made after October 23 will be considered but might not be possible to fulfill.

The primary mission of the Advisory Council is to provide counsel to the President on enhancing the connections between the United States Government and the African Diaspora within the United States, aligning with the objectives outlined in the U.S. Strategy Toward Sub-Saharan Africa.

The activities of the Advisory Council encompass strategies to advance equity and opportunity for African Diaspora communities, ways to support the United Nations' Permanent Forum on People of African Descent, programs and initiatives to strengthen cultural, social, political, and economic ties between African communities, the global African Diaspora, and the United States, and programs and initiatives to increase participation of members of the African Diaspora in the United States with regard to trade, investment, economic growth, and development programs relating to Africa. Established in accordance with Executive Order 14089, the Advisory Council operates under the administrative authority of the Secretary of State and under the Federal Advisory Committee Act.

This announcement might appear in the Federal Register less than 15 days prior to the meeting. The Department of State finds that there is an exceptional circumstance in that this advisory committee meeting must be held on October 30, due to the schedules of senior officials whose attendance is required.

Kevin E. Bryant,
Deputy Director, Office of Directives Management, Department of State.

[FR Doc. 2023-22684 Filed 10-12-23; 8:45 am]

BILLING CODE 4710-26-P